FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 010979-037.

Title: Caribbean Shipowners Association.

Parties:

A.P. Moller-Maersk Sealand

Bernuth Lines, Ltd.,

CMA--CGM SA, CMA-CGM The French Line

Crowley Liner Services, Inc.,

Interline Connection, NV,

Seaboard Marine, Ltd.,

Seafreight Line, Ltd.,

Tecmarine Lines, Inc.,

Tropical Shipping & Construction Co., Ltd.

Synopsis: The proposed agreement amendment changes the basic agreement from a conference agreement to a discussion agreement. The amendment also deletes King Ocean Services S.A. as a member of the agreement.

Agreement No.: 201022-002.

Title: New Orleans/Coastal Terminal Agreement.

Parties: The Board of Commissioners of the Port of New Orleans Coastal Cargo Company, Inc.

Synopsis: The proposed amendment changes the annual guarantee from a tonnage basis to a financial basis. The agreement runs through March 31, 2007.

Agreement No.: 201101-002.

Title: Tampa/Tampa Bay Marine Terminal Wharfage Incentive Agreement.

Parties:

Tampa Port Authority

Tampa Bay International Terminals, Inc.

Synopsis: The amendment extends the terms of the agreement through March 31, 2003.

Dated: April 5, 2002.
By order of the Federal Maritime Commission.
Bryant L. VanBrakle,
Secretary.

[FR Doc. 02-8722 Filed 4-9-02; 8:45 am]

BILLING CODE 6730-01-P